DEPARTMENT OF HEALTH AND HUMAN SERVICES

Health Care Financing Administration

[Document Identifier: HCFA-10016]

Agency Information Collection Activities: Proposed Collection; Comment Request

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Reinstatement, with change, of a previously approved collection for which approval has expired; Title of Information Collection: Oxygen Consumer Survey: Medical Equipment and Supplies Consumer Survey; Form No.: HCFA-10016 (OMB# 0938-0807); Use: The Oxygen Consumer Survey and Medical Equipment and Supplies Consumer Survey will be used to collect information from Medicare beneficiaries who use oxygen equipment, hospital beds, wheelchairs, orthotics, and inhalation drugs used with a nebulizer. This information will be used to evaluate the Health Care Financing Administration's (HCFA's) Competitive Bidding Demonstration for Durable Medicare Equipment (DME) and Prosthetics, Orthotics, and Supplies (POS). In the demonstration, HCFA will use competitive bidding to set Medicare Part B fees for selected types of DME and POS.

The purpose of the evaluation is to determine whether the demonstration affects Medicare expenditures, access to care, quality of care, diversity of product selection, and industry competitiveness. The evaluation will also examine any problems associated with implementing competitive bidding for Part B services. Results of the evaluation will be used by HCFA and Congress to determine whether it is feasible to expand competitive bidding.

The research questions to be addressed by the surveys focus on access, quality, and product selection. Our information collection process will include fielding a survey for oxygen users and a survey for other medical equipment and supplies users before the demonstration begins and again after the new demonstration prices have been put into effect. Beneficiaries within the demonstration area will be surveyed; we will also survey beneficiaries within a control site that is similar to the demonstration site in terms of population, managed care penetration, volume of services, and number of beneficiaries. We will also control the socioeconomic factors when analyzing the date. This design will allow us to separate the effects of the demonstration from beneficiary-or site-specific effects.

This evaluation was expanded to a second site, San Antonio, Texas as of March 2000. The Balanced Budget Act of 1997 allowed for the demonstration to be conducted in up to three different regions. The demonstration has been ongoing in the first site, Polk County, Florida, since 1999. The baseline Polk County beneficiary surveys were conducted between March and June of 1999. The follow-up Polk County beneficiary surveys were conducted during the fall of 2000.

We are seeking approval for the new beneficiary surveys (Baseline and Follow-up) for the San Antonio demonstration and comparison site and any subsequent demonstration and comparison sites that include the same DME and POS products. The surveys for the second site, San Antonio, are almost identical to the surveys used in the first site, Polk County, Florida; Frequency: Annually; Affected Public: Individuals and Households; Number of Respondents: 2,500; Total Annual Responses: 725; Total Annual Hours: 725.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Melissa Musotto, Room N2-14-26, 7500 Security Boulevard, Baltimore, Maryland 21244-1850.

Dated: February 22, 2001.
John P. Burke III,
HCFA Reports Clearance Officer, HCFA Office of Information Services, Security and Standards Group, Division of HCFA Enterprise Standards.

[FR Doc. 01-5785 Filed 3-8-01; 8:45 am]

BILLING CODE 4120-03-P